DEPARTMENT OF ENERGY

Federal Energy Regulatory Commission

Combined Notice of Filings No. 3

September 01, 2010.

Take notice that the Commission has received the following Natural Gas Pipeline Rate and Refund Report filings:

Docket Numbers: RP10-1017-001.

Applicants: Florida Gas Transmission Company, LLC.

Description: Florida Gas Transmission Company, LLC submits tariff filing per 154.203: Baseline Correction to be effective 7/30/2010.

Filed Date: 08/31/2010.

Accession Number: 20100831-5141.

Comment Date: 5 p.m. Eastern Time on Monday, September 13, 2010.

Docket Numbers: RP10-147-004.

Applicants: Natural Gas Pipeline Company of America.

Description: Natural Gas Pipeline Company of America LLC submits First Revised Sheet 16 et al. to its FERC Gas Tariff, Seventh Revised Volume 1.

Filed Date: 08/31/2010.

Accession Number: 20100831-0204.

Comment Date: 5 p.m. Eastern Time on Monday, September 13, 2010.

Docket Numbers: RP10-779-003.

Applicants: Dominion Transmission, Inc.

Description: Dominion Transmission, Inc. submits tariff filing per 154.203: DTI—Volume No. 1B Baseline Compliance Filing, to be effective 8/31/2010 under RP10-779. Filing Type: 580.

Filed Date: 08/31/2010.

Accession Number: 20100831-5028.

Comment Date: 5 p.m. Eastern Time on Monday, September 13, 2010.

Docket Numbers: RP10-896-001.

Applicants: Granite State Gas Transmission, Inc.

Description: Motion of Maine Public Advocate Office under RP10-896.

Filed Date: 08/31/2010.

Accession Number: 20100831-5161.

Comment Date: 5 p.m. Eastern Time on Monday, September 13, 2010.

Docket Numbers: RP10-1044-001.

Applicants: MIGC LLC.

Description: MIGC LLC submits their Baseline Tariff of its FERC Gas Tariff, Third Revised Volume No. 1, to be effective 8/2/2010.

Filed Date: 09/01/2010.

Accession Number: 20100901-5001.

Comment Date: 5 p.m. Eastern Time on Monday, September 13, 2010.

Docket Numbers: RP10-963-001.

Applicants: Granite State Gas Transmission, Inc.

Description: Granite State Gas Transmission, Inc. submits tariff filing per 154.203: Version 1.9 Compliance to be effective 11/1/2010.

Filed Date: 09/01/2010.

Accession Number: 20100901-5058.

Comment Date: 5 p.m. Eastern Time on Monday, September 13, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-22421 Filed 9-8-10; 8:45 am]

BILLING CODE 6717-01-P